ENVIRONMENTAL PROTECTION AGENCY

[FRL-8552-7; Docket ID No. EPA-HQ-ORD-2008-0057]

Draft Toxicological Review of Thallium: In Support of the Summary Information in the Integrated Risk Information System (IRIS)

AGENCY: Environmental Protection Agency (EPA).

ACTION: Notice of Peer Review Workshop.

SUMMARY: EPA is announcing that Eastern Research Group, Inc. (ERG), an EPA contractor for external scientific peer review, will convene an independent panel of experts and organize and conduct an external peer review workshop to review the external review draft document titled, “Toxicological Review of Thallium: In Support of Summary Information on the Integrated Risk Information System (IRIS)” (NCEA-S-2949; EPA/635/R-08/001). EPA previously announced the 60-day public comment period (ending April 15, 2008) for the draft document in the Federal Register on February 15, 2008 (73 FR 8867). EPA will consider public comments and recommendations from the expert panel workshop as EPA finalizes the draft document.

The public comment period and the external peer review workshop are separate processes that provide opportunities for all interested parties to comment on the document. EPA intends to forward public comments submitted in accordance with the Federal Register notice (73 FR 8867) to ERG for consideration by the external peer review panel prior to the workshop.

EPA is releasing this draft document solely for the purpose of pre-dissemination peer review under applicable information quality guidelines. This document has not been formally disseminated by EPA. It does not represent and should not be construed to represent any Agency policy or determination.

The public may attend this workshop as observers through a registration process, and time will be set aside for observers to give brief oral comments at the workshop regarding the draft document under review. Pre-registration is strongly recommended as space is limited, and registrations will be accepted on a first-come, first-served basis. The deadline for pre-registration is Monday, May 12, 2008. If space allows, registrations will continue to be accepted after this date, including on-site registrations. Time will be set aside to hear comments from observers, and individuals will be limited to a maximum of five minutes during the morning session of peer review workshop. When you register, please indicate that you wish to make oral comments during the comment period.

The draft document and EPA's peer review charge are available via the Internet on NCEA's home page under the Recent Additions and the Data and Publications menus at http://www.epa.gov/ncea. When finalizing the draft document, EPA intends to consider the comments and recommendations from the external peer review workshop and any public comments that EPA receives in accordance with 73 FR 8867, February 15, 2008. Public comments submitted during the 60-day public comment period ending April 15, 2008, may be observed at http://www.regulations.gov under Docket ID No. EPA-HQ-ORD-2008-0057.

DATES: The peer review workshop will begin on Monday, May 19, 2008, at approximately 8:30 a.m. and end at no later than 4:30 p.m., Eastern time. Observers must register by May 12, 2008, and indicate that you wish to make brief oral comments at the workshop.

ADDRESSES: The peer review workshop will be held at the Navy League Building, 2300 Wilson Blvd, Arlington, Virginia 22201. ERG is organizing, convening, and conducting the peer review workshop. To attend the workshop as an observer, register by May 12, 2008, via the Internet at http://www2.ergweb.com/projects/conferences/peerreview/register-thallium.htm. You may also register by e-mail at meetings@erg.com (subject line: Thallium), by phone: 781-674-7374 or toll free at 800-803-2833, or by faxing a registration request to 781-674-2906 (please reference the “Thallium Peer Review Workshop” and include your name, title, affiliation, full address and contact information).

The draft “Toxicological Review of Thallium: In Support of Summary Information on the Integrated Risk Information System (IRIS)” is available via the Internet on the National Center for Environmental Assessment's (NCEA) home page under the Recent Additions and the Data and Publications menus at http://www.epa.gov/ncea. A limited number of paper copies are available from NCEA's Information Management Team, telephone: 703-347-8561; facsimile: 703-347-8691. If you are requesting a paper copy, please provide your name, mailing address, and the document title. Copies are not available from ERG. The 1988 Midwest Research Institute (MRI) study referenced in the draft Toxicological Review of Thallium is available by contacting EPA's IRIS Hotline (by phone at 202-566-1676, by facsimile at 202-566-1749, or by e-mail at hotline.iris@epa.gov), via the docket at http://www.regulations.gov under Docket ID No. EPA-HQ-ORD-2008-0057, or at the NCEA home page under the Recent Additions and the Data and Publications menus at http://www.epa.gov/ncea.

FOR FURTHER INFORMATION CONTACT: For information on the peer review workshop, contact ERG, 110 Hartwell Avenue, Lexington, MA 02421-3136; telephone: 781-674-7374; facsimile: 781-674-2906; or e-mail: meetings@erg.com (subject line: Thallium). If you have questions about the document, contact Susan Rieth, IRIS Staff, National Center for Environmental Assessment, (8601D), U.S. EPA, 1200 Pennsylvania Avenue, NW., Washington, DC 20460; telephone: 703-347-8582; facsimile: 703-347-8689; or e-mail: rieth.susan@epa.gov.

SUPPLEMENTARY INFORMATION:

I. Summary of Information About the Integrated Risk Information System (IRIS)

IRIS is a database that contains potential adverse human health effects information that may result from chronic (or lifetime) exposure to specific chemical substances found in the environment. The database (available on the Internet at http://www.epa.gov/iris) contains qualitative and quantitative health effects information for more than 540 chemical substances that may be used to support the first two steps (hazard identification and dose-response evaluation) of a risk assessment process. When supported by available data, the database provides oral reference doses (RfDs) and inhalation reference concentrations (RfCs) for chronic health effects, and oral slope factors and inhalation unit risks for carcinogenic effects. Combined with specific exposure information, government and private entities can use IRIS data to help characterize public health risks of chemical substances in a site-specific situation and thereby support risk management decisions designed to protect public health.

II. Workshop Information

Members of the public may attend the workshop as observers, and there will be a limited time for oral comments from the public. Please let ERG know if you wish to make comments during the workshop by registering on the Web site at https://www2.ergweb.com/projects/conferences/peerreview/register-thallium.htm and indicating your intent to make oral comments. Space is limited, and reservations will be accepted on a first-come, first-served basis.

Dated: April 1, 2008.
Rebecca Clark,
Director, National Center for Environmental Assessment.

[FR Doc. E8-7350 Filed 4-7-08; 8:45 am]

BILLING CODE 6560-50-P